DEPARTMENT OF COMMERCE

National Oceanic and Atmospheric Administration

RIN 0648-XH041

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Highly Migratory Species Management Team (HMSMT) will hold a webinar, which is open to the public.

DATES: The webinar meeting will be held on Thursday, June 6, 2019, from 1:30 p.m. until 4:30 p.m. The webinar time is an estimate; the meeting will adjourn when business for the day is completed.

ADDRESSES: The meeting will be held via webinar. A public listening station is available at the Pacific Council office (address below). To attend the webinar (1) join the meeting by visiting this link https://www.gotomeeting.com/webinar, (2) enter the Webinar ID: 544-381-883, and (3) enter your name and email address (required). After logging in to the webinar, please (1) dial this TOLL number 1-562-247-8321 (not a toll-free number), (2) enter the attendee phone audio access code 835-605-745, and (3) enter the provided audio PIN after joining the webinar. You must enter this PIN for audio access. Note: We have disabled Mic/Speakers as an option and require all participants to use a telephone or cell phone to participate. Technical Information and system requirements: PC-based attendees are required to use Windows® 7, Vista, or XP; Mac®-based attendees are required to use Mac OS® X 10.5 or newer; Mobile attendees are required to use iPhone®, iPad®, Android™ phone or Android tablet (See the https://www.gotomeeting.com/webinar/ipad-iphone-android-webinar-apps.) You may send an email to Mr. Kris Kleinschmidt at Kris.Kleinschmidt@noaa.gov or contact him at 503-820-2280, extension 411 for technical assistance. A public listening station will also be available at the Pacific Council office.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The primary purpose of this HMSMT webinar is to prepare for the June 2019 Council meeting. The HMS topics on the Council's June agenda are: (1) National Marine Fisheries Report, (2) International Management Recommendations, (3) Yellowfin Tuna Overfishing Response, (4) Drift Gillnet Fishery Performance Metrics Review, (5) Review and Recommendations on Exempted Fishing Permit Applications, and (6) Review of Deep-Set Buoy Gear Authorization Analyses. The HMSMT may also discuss other items related to HMS management and administrative Pacific Council agenda items. A detailed agenda for the webinar will be available on the Pacific Council's website prior to the meeting. No management actions will be decided by the HMSMT.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Dated: May 21, 2019.
Tracey L. Thompson,
Acting Deputy Director, Office of Sustainable Fisheries, National Marine Fisheries Service.

[FR Doc. 2019-10961 Filed 5-23-19; 8:45 am]

BILLING CODE 3510-22-P